DEPARTMENT OF COMMERCE

National Oceanic and Atmospheric Administration

RIN 0648-XF135

Pacific Fishery Management Council; Public Meeting

AGENCY: National Marine Fisheries Service (NMFS), National Oceanic and Atmospheric Administration (NOAA), Commerce.

ACTION: Notice of a public meeting.

SUMMARY: The Pacific Fishery Management Council (Pacific Council) is sponsoring a meeting to review new methods proposed to be used in groundfish stock assessments. The meeting is open to the public.

DATES: The Groundfish Assessment Methodology Review Meeting will commence at 8:30 a.m. PST, Wednesday, January 25, 2017, and continue until 5 p.m. or as necessary to complete business for the day. The meeting will reconvene on Thursday, January 26, 2017, starting at 8:30 a.m. PST and continue as necessary to complete business for the day.

ADDRESSES: On January 25, 2017, the Groundfish Assessment Methodology Review Meeting will be held in the auditorium at the NMFS Northwest Fisheries Science Center, 2725 Montlake Boulevard E, Seattle, WA 98112; telephone: (206) 860-3200. On January 26, 2017, the meeting will be held in the Heritage Room at the Seattle Yacht Club, 1807 East Hamlin Street, Seattle, WA 98112; telephone: (206) 325-1000. The Seattle Yacht Club is next door to the NMFS Northwest Fisheries Science Center.

Council address: Pacific Fishery Management Council, 7700 NE Ambassador Place, Suite 101, Portland, OR 97220-1384; telephone: (503) 820-2280.

FOR FURTHER INFORMATION CONTACT: Mr. John DeVore, Pacific Council; telephone: (503) 820-2413.

SUPPLEMENTARY INFORMATION: The purpose of the Groundfish Assessment Methodology Review Meeting is to review proposed methods for groundfish stock assessment. The specific methodologies to be reviewed are:

• Use of the Dirichlet multinomial likelihood for compositional data;

• Application of the Generalized Linear Mixed Model (GLMM) with spatial autocorrelation to survey data;

• Application of the GLMM with spatial autocorrelation to fishery catch per unit effort data;

• Revised set of priors for natural mortality;

• Revised prior for steepness; and

• New features in the revised Stock Synthesis software.

Public comments during the meeting will be received from attendees at the discretion of the chair.

Although non-emergency issues not identified in the meeting agenda may come before the meeting participants for discussion, those issues may not be the subject of formal action during this meeting. Formal action at the meeting will be restricted to those issues specifically listed in this notice and any issues arising after publication of this notice that require emergency action under Section 305(c) of the Magnuson-Stevens Fishery Conservation and Management Act, provided the public has been notified of the meeting participants' intent to take final action to address the emergency.

Visitors who are foreign nationals (defined as a person who is not a citizen or national of the United States) will require additional security clearance to access the NMFS Northwest Fisheries Science Center. Foreign national visitors should contact Ms. Stacey Miller at (541) 867-0535 at least two weeks prior to the meeting date to initiate the security clearance process.

Special Accommodations

This meeting is physically accessible to people with disabilities. Requests for auxiliary aids should be directed to Mr. Kris Kleinschmidt at 503-820-2425 at least ten days prior to the meeting date.

Dated: January 3, 2017.
Jeffrey N. Lonergan,
Acting Deputy Director, Office of Sustainable Fisheries, National Marine Fisheries Service.

[FR Doc. 2017-00060 Filed 1-5-17; 8:45 am]

BILLING CODE 3510-22-P